DEPARTMENT OF THE INTERIOR

National Park Service

60-day Notice of Intention To Request Clearance of Collection of Information: Opportunity for Public Comment

AGENCY: National Park Service, The Department of the Interior.

ACTION:

Notice and request for comments.

SUMMARY: Under the provisions of the Paperwork Reduction Act of 1995 (Pub. L. 104-13, 44 U.S.C., Chapter 3507) and 5 CFR part 1320, Reporting and Record Keeping Requirements, the National Park Service invites public comments on an extension of a currently approved collection (OMB#1024-0018).

DATES: Public comments will be accepted on or before sixty days from the date of publication in the Federal Register.

ADDRESSES: Send comments to Beth L. Savage, Publications Managing Editor, National Register of Historic Places, National Park Service, 1849 “C” Street NW., (2280), Washington, DC 20240. E-mail: beth_savage@nps.gov. Phone: 202-354-2211, Fax 202-371-2229.

To Request Copies of the Documents Contact: Beth L. Savage, Publications Managing Editor, National Register of Historic Places, National Park Service, 1849 “C” Street NW., (2280), Washington, DC 20240. E-mail: beth_savage@nps.gov. For further information, contact Beth Savage, (202) 354-1122.

SUPPLEMENTARY INFORMATION: Title: National Register of Historic Places Registration Form, National Register of Historic Places Continuation Sheet, and National Register of Historic Places Multiple Property Documentation Form.

Form: NPS 10-900 (registration form), 10-900-a (continuation sheet), 10-900-b (multiple property form).

OMB Number: NPS 1024-0018.

Expiration Date: 12/31/05.

Type of Request: Extension of a currently approved collection.

Description of Need: The primary purpose of the ICR is to nominate properties for listing in the National Register of Historic Places, the official list of the Nation's cultural resources worthy of preservation, which the National Historic Preservation Act requires the Secretary of the Interior to maintain and expand. Properties are listed upon nomination by State, Federal and Tribal Historic Preservation Officers. The National Register of Historic Places Registration Form documents properties nominated for listing in the National Register and demonstrates that they meet the criteria established for inclusion. The documentation is used to assist in preserving and protecting the properties and for heritage education and interpretation. National Register properties and those eligible for listing must be considered in the planning for Federal or federally assisted projects, and National Register listing is required for eligibility for the Federal rehabilitation tax incentives. NPS specifically requests comments on: (1) The need for information including whether the information has practical utility; (2) the accuracy of the reporting burden estimate; (3) ways to enhance the quality, utility, and clarity of the information to be collected; and (4) ways to minimize the burden of information collection on respondents, including the use of automated collection techniques or other forms of information technology.

Description of Respondents: The affected public are State, tribal, and local governments, businesses, non-profit organizations, and individuals. Nominations to the National Register of Historic Places are voluntary.

Estimated Annual Reporting Burden: 52,824 hours, broken down as follows, 196 nominations submitted under existing MPS @ 18 hrs. each = 3,528. 1,186 newly proposed individual nominations @ 36 hrs. each = 42,696.55 newly proposed MPS @ 120 hrs. each = 6,600.

Estimated Average Burden Hours per Response: Depending on which form is used, the average burden hours per response may vary considerably because of many complex factors. In general, to fulfill minimum program requirements describing the nominated property and demonstrating its eligibility under the criteria, the average burden hours range from 18 hours for a nomination proposed under an existing Multiple Property submission, to 36 hours for a newly proposed individual nomination, to 120 hours for a newly proposed Multiple Property Submission. Continuation sheets (10-900-a) are used as space for additional information for both the individual nomination form and the multiple property form, as needed. As such, the calculation of average burden hours per response for the continuation sheets has been included in the above average calculations for the nomination form (10-900-) and the multiple property form (10-900-b).

Estimated Average Number of Respondents: 1,513.

Estimated Frequency of Response: 1,513 annually.

Dated: July 19, 2005.
Leonard E. Stowe,
National Park Service Information and Collection Clearance Officer.

[FR Doc. 05-17261 Filed 8-30-05; 8:45 am]

BILLING CODE 4312-57-M